DEPARTMENT OF HEALTH AND HUMAN SERVICES

Centers for Disease Control and Prevention

[30Day-23-0920]

Agency Forms Undergoing Paperwork Reduction Act Review

In accordance with the Paperwork Reduction Act of 1995, the Centers for Disease Control and Prevention (CDC) has submitted the information collection request titled “Data Collection Through Web Based Surveys for Evaluating Act Against AIDS Social Marketing Campaign Phases Targeting Consumers” to the Office of Management and Budget (OMB) for review and approval. CDC previously published a “Proposed Data Collection Submitted for Public Comment and Recommendations” notice on February 17, 2023 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Data Collection Through Web Based Surveys for Evaluating Act Against AIDS Social Marketing Campaign Phases Targeting Consumers (OMB Control No. 0920-0920, Exp. 05/31/2023)—Extension—National Center for HIV/AIDS, Viral Hepatitis, STD and TB Prevention (NCHHSTP), Centers for Disease Control and Prevention (CDC).

Background and Brief Description

In response to the continued HIV epidemic in our country, in 2009 CDC launched the Let's Stop HIV Together campaign (formerly known as Act Against AIDS), a multifaceted communication campaign to reduce HIV incidence in the United States. CDC has released the campaign in phases, with some of the phases running concurrently. Each phase of the campaign uses mass media and direct-to-consumer channels to deliver messages. Some campaigns provide basic education and increase awareness of HIV/AIDS among the general public while others emphasize HIV prevention and testing among specific subgroups or communities at greatest risk of infection. CDC also develops new messages to address changes in prevention science and subpopulations affected by HIV.

CDC has used a generic clearance (OMB No. 0920-0920) to facilitate OMB approval of information collection needed to assess the effectiveness of social marketing messages aimed at increasing HIV/AIDS awareness, increasing prevention behaviors, and improving HIV testing rates among consumers. Specifically, in 2022 CDC received OMB approval to collect information for evaluating the acceptability and potential effectiveness of proposed concepts, messages, and taglines for a component of the Let's Stop HIV Together campaign (“Development of Messages for the Let's Stop HIV Together National Campaign”). This component emphasizes proven, effective prevention strategies, such as pre-exposure prophylaxis (PrEP) and treatment as prevention (TasP). Information collection has been initiated but has not been completed.

CDC is requesting OMB approval to extend the generic clearance and to complete information collection that supports campaign development and evaluation. Respondents will be recruited through national opt-in email lists, the internet, and external partnerships with community-based and membership organizations that work with or represent individuals from targeted populations (e.g., National Urban League, the National Medical Association).

To identify and reach target audiences, screening questions for up to 30,880 potential respondents may address one or more of the following items: Race/ethnicity, sexual behavior, sexual orientation, gender identity, HIV testing history, HIV status, and injection drug use. In addition, up to 5,445 respondents will be asked to complete a self-administered survey at home on a personal computer. Each targeted campaign survey will have a core set of items asked in all rounds, as well as a module of questions relating to specific Let's Stop HIV Together phases and activities.

OMB approval is requested for three years and there is no cost to the respondents other than their time. The total estimated annualized burden is 3,751 hours.

Estimated Annualized Burden Hours
Type of respondents | Form name | Number of respondents | Number of responses per respondent | Average burden per response (in hours)
Individuals (male and female) aged 18 years and older | Study Screener | 30,880 | 1 | 2/60
| Survey Module | 5,445 | 1 | 30/60

Jeffrey M. Zirger,
Lead, Information Collection Review Office, Office of Public Health Ethics and Regulations, Office of Science, Centers for Disease Control and Prevention.

[FR Doc. 2023-10957 Filed 5-22-23; 8:45 am]

BILLING CODE 4163-18-P